DEPARTMENT OF LABOR

Employment and Training Administration

[TA-W-51,555]

BASF Corporation, Anderson, SC; Notice of Termination of Investigation

Pursuant to section 221 of the Trade Act of 1974, as amended, an investigation was initiated on April 21, 2003, in response to a worker petition filed by a company official on behalf of workers at BASF Corporation, Anderson, South Carolina.

The petitioner has requested that the petition be withdrawn. Consequently, the investigation has been terminated.

Signed in Washington, DC this 29th day of April, 2003.
Richard Church,
Certifying Officer, Division of Trade Adjustment Assistance.

[FR Doc. 03-11558 Filed 5-8-03; 8:45 am]

BILLING CODE 4510-30-P